DEPARTMENT OF THE TREASURY

Fiscal Service

Surety Companies Acceptable on Federal Bonds—Name Change and Change in State of Incorporation: Nations Bonding Company

AGENCY: Financial Management Service, Fiscal Service, Department of the Treasury.

ACTION: Notice.

SUMMARY: This is Supplement No. 10 to the Treasury Department Circular 570; 2011 Revision, published July 1, 2011, at 76 FR 38892.

FOR FURTHER INFORMATION CONTACT: Surety Bond Branch at (202) 874-6850.

SUPPLEMENTARY INFORMATION: Nations Bonding Company (NAIC #11595) has formally changed its name to Merchants National Bonding, Inc., and has redomesticated from the state of Texas to the state of Iowa, effective January 1, 2012. Federal bond-approving officers should annotate their reference copies of the Treasury Circular 570, 2011 Revision, to reflect this change.

The Circular may be viewed and downloaded through the Internet at http://www.fms.treas.gov/c570.

Questions concerning this notice may be directed to the U.S. Department of the Treasury, Financial Management Service, Financial Accounting and Services Division, Surety Bond Branch, 3700 East-West Highway, Room 6F01, Hyattsville, MD 20782.

Dated: February 15, 2012.
Laura Carrico,
Director, Financial Accounting and Services Division.

[FR Doc. 2012-4204 Filed 2-23-12; 8:45 am]

BILLING CODE 4810-35-M